DEPARTMENT OF VETERANS AFFAIRS

Veterans' Rural Health Advisory Committee; Notice of Meeting

The Department of Veterans Affairs (VA) gives notice under Public Law 92-463 (Federal Advisory Committee Act) that the Veterans' Rural Health Advisory Committee will hold a meeting on October 13-14, 2010, at the Hyatt Regency Washington on Capitol Hill, 400 New Jersey Avenue, NW., Washington, DC. The sessions will be open to the public from 8 a.m. until 9:15 a.m. and from 12:30 p.m. until 4:45 p.m. on October 13 and from 8 a.m. until 1:45 p.m. on October 14.

The purpose of the Committee is to advise the Secretary of Veterans Affairs on health care issues affecting enrolled Veterans residing in rural areas. The Committee examines programs and policies that impact the provision of VA health care to enrolled Veterans residing in rural areas, and discusses ways to improve and enhance VA services for these Veterans.

On the morning of October 13, the Committee will hear from its Chairman, the Director of the VA Office of Rural Health and the VA Under Secretary for Health. The Committee will then convene a closed session in order to protect patient privacy as the Committee tours the Washington, DC VA Medical Center. Closing portion of the session is in accordance with 5 U.S.C. 552b(c)(6). In the afternoon, the Committee will hold discussions on the VA response to its 2009 Annual Report to the Secretary, the progress of its 2010 brief to the Secretary, and the Office of Rural Health Strategic Plan. The Committee will hear presentations from the Directors of the three field-based Veterans Rural Health Resource Centers and a field-based Veterans Integrated Service Network Rural Consultant.

On October 14, the Committee will hear presentations from the Senior Advisor to the Secretary, the Director of the VA Voluntary Services, and the Director of VA Office of Readjustment Counseling Services. The Committee will complete its annual ethics review, and discuss other committee management items. A 15 minute period will be reserved at 12:45 p.m. for public comments. Individuals who speak are invited to submit a 1-2 page summaries of their comments at the time of the meeting for inclusion in the official meeting record. Members may also submit written statements for the Committee's review to Ms. Christina White, Designated Federal Officer, Department of Veterans Affairs, Office of Rural Health (10A5A), 810 Vermont Avenue, NW., Washington, DC 20420, or e-mail at rural.health.inquiry@va.gov.

Any member of the public seeking additional information should contact Ms. White at (202) 461-7100.

Dated: September 29, 2010.
By Direction of the Secretary.
Vivian Drake,
Acting Committee Management Officer.

[FR Doc. 2010-24891 Filed 10-4-10; 8:45 am]

BILLING CODE 8320-01-P